DEPARTMENT OF COMMERCE

National Oceanic and Atmospheric Administration

[Docket No.: 0909281323-91323-01]

Exception to Final Guidelines for the Coastal and Estuarine Land Conservation Program

AGENCY: National Ocean Service (NOS), National Oceanic and Atmospheric Administration (NOAA), Department of Commerce.

ACTION: Notice; exception to final guidelines.

SUMMARY: The National Oceanic and Atmospheric Administration, National Ocean Service publishes this notice of exception to the Final Guidelines for the Coastal and Estuarine Land Conservation Program (CELCP). For those grants issued in fiscal year 2006 that are due to expire on September 30, 2009, NOAA may extend the financial assistance award period for up to 6 additional months, providing for a potential maximum award duration of three years and six months.

DATES: The provisions in this notice are implemented as of September 30, 2009.

FOR FURTHER INFORMATION CONTACT: For further information, contact: Elaine Vaudreuil, 301-713-3155 ext. 103, Elaine.Vaudreuil@noaa.gov.

SUPPLEMENTARY INFORMATION: The Coastal and Estuarine Land Conservation Program was established pursuant to Public Law 107-77 for the purpose of protecting important coastal and estuarine areas that have significant conservation, recreation, ecological, historical, or aesthetic values, or that are threatened by conversion from their natural or recreational state to other uses. In accordance with Public Law 107-77, CELCP published in the Federal Register on June 17, 2003 (68 FR 35860) program guidelines delineating the criteria for grant awards. The Final Guidelines for CELCP outline a planning process for states to identify the conservation needs and priorities within each state; provide the information necessary for eligible coastal states to develop land conservation plans and nominate projects to a national competitive selection process; and delineate the criteria for grant awards.

In FY 2006, the conference report accompanying the Science, State, Justice, Commerce, and Related Agencies Appropriations Act of 2006 (Pub. L. 109-108) directed funds for specific land conservation projects under the CELCP. Consistent with the criteria for grants awards in the Final Guidelines, the standard financial assistance award period for these awards is 18 months, which can be extended an additional 18 months if circumstances warrant, but may not exceed 3 years.

Several FY 2006 awards, whose award period is set to expire on September 30, 2009, have experienced unforeseen circumstances late in the process that precluded their completion within the 3-year timeframe provided in the CELCP Guidelines. In order to ensure that projects can be completed and funds expended for their intended purpose, NOAA is extending the maximum potential award duration for those FY 2006 grants in an open status on September 29, 2009, from three years to three years and six months, ending no later than March 31, 2010.

Award recipients who wish to avail themselves of the extension to the award period should contact their Program Officer by September 30, 2009 to inform them of their intent to seek an extension.

This extension applies to only FY 2006 CELCP awards in an open status on September 29, 2009. This notice does not modify any provision in the Final Guidelines for the Coastal and Estuarine Land Conservation Program published on June 17, 2003.

Classification

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

September 29, 2009.
John H. Dunnigan,
Assistant Administrator for Ocean Services and Coastal Zone Management.

[FR Doc. E9-23819 Filed 9-30-09; 8:45 am]

BILLING CODE P